DEPARTMENT OF HOMELAND SECURITY

Federal Emergency Management Agency

National Fire Academy Board of Visitors

AGENCY: Federal Emergency Management Agency, Emergency Preparedness and Response Directorate, Department of Homeland Security.

ACTION: Committee management: Notice of committee establishment.

SUMMARY: The Secretary of the Department of Homeland Security has determined that the establishment of the National Fire Academy Board of Visitors is necessary and in the public interest in connection with the performance of duties of the Under Secretary of the Emergency Preparedness and Response Directorate. This determination follows consultation with the Committee Management Secretariat, General Services Administration.

Name of Committee: National Fire Academy Board of Visitors.

Purpose and Objectives: The Committee advises the Secretary of the Department of Homeland Security and the Under Secretary of the Emergency Preparedness and Response Directorate.

The Board shall review annually the programs of the Academy and advise the Under Secretary through the U.S. Fire Administrator regarding the operation of the Academy and any improvements therein that the Board deems appropriate. The Board shall make interim advisories to the Under Secretary through the U.S. Fire Administrator whenever there is an indicated urgency to do so in fulfilling its duties.

1. In carrying out their responsibilities, the Board shall include in their review:

a. An examination of Academy programs to determine whether these programs further the basic missions which are approved by the Under Secretary;

b. An examination of the physical plant of the Academy to determine the adequacy of the Academy facilities; and,

c. An examination of the funding levels for the Academy programs.

2. The Board shall submit its annual report through the U.S. Fire Administrator to the Under Secretary, in writing, within thirty (30) days following its meeting. This report shall provide detailed comments and recommendations regarding the operation of the Academy. The Board shall submit interim reports through the U.S. Fire Administrator to the Under Secretary whenever there is an indicated need to do so in the fulfillment of its duties.

Balanced Membership Plans: The Committee shall be comprised of eight members. The Secretary shall appoint the members of the Board from among professionals in the fields of fire safety, fire prevention, fire control, research and development in fire protection, treatment and rehabilitation of fire victims, or local government services management, and from such professional organizations as will ensure a balanced representation of fire and emergency services interests. Members will be appointed as Special Government Employees (SGEs). Members of the Board shall be appointed for terms of up to three (3) years, and members may be reappointed to three subsequent 3-year terms at the discretion of the Secretary. Board members will continue to serve until their replacement is appointed. In the event of a vacancy on the Board, the Secretary may select an alternate member or other individual to serve the unexpired term as described in the appointment letter. In order to provide for continuity of member participation, terms are staggered. No more than half of the members shall be replaced (or reappointed) in any given year unless there are vacancies for reasons other than term expiration.

Duration: Continuing.

Responsible DHS Official: Mr. R. David Paulison, U.S. Fire Administrator, 16825 South Seton Avenue, Emmitsburg, MD 21727.

Dated: July 30, 2004.
Michael D. Brown,
Under Secretary, Emergency Preparedness and Response, Department of Homeland Security.

[FR Doc. 04-17969 Filed 8-5-04; 8:45 am]

BILLING CODE 9110-17-P